DEPARTMENT OF AGRICULTURE

Office of Procurement and Property Management

Public Availability of FY 2012 Service Contract Inventories

AGENCY: Office of Procurement and Property Management, Departmental Management, Department of Agriculture.

ACTION: Notice of public availability of FY 2012 Service Contract inventories.

SUMMARY: In accordance with Section 743 of Division C of the Consolidated Appropriations Act of 2010 (Pub. L. 111-117), Department of Agriculture is publishing this notice to advise the public of the availability of the FY 2012 Service Contract inventory. This inventory provides information on FY 2012 service contract actions over $25,000. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. Department of Agriculture has posted its inventory and a summary of the inventory on the Office of Procurement and Property Management homepage at the following link: http://www.dm.usda.gov/procurement/.

FOR FURTHER INFORMATION CONTACT: Al Muñoz, Office of Procurement and Property Management, at (202) 720-1273 or by mail at OPPM, Mail Stop 9304, U.S. Department of Agriculture, 1400 Independence Avenue SW., Washington, DC 20250-9303. Please cite “2012 Service Contract Inventory” in all correspondence.

Signed in Washington, DC, on March 4, 2013.
Lisa M. Wilusz,
Director, Office of Procurement and Property Management.

[FR Doc. 2013-07053 Filed 4-2-13; 8:45 am]

BILLING CODE 3410-TX-P